DEPARTMENT OF ENERGY

Federal Energy Regulatory Commission

Notice of Intent To File Application for a New License

January 25, 2002.

Take notice that the following notice of intent has been filed with the Commission and is available for public inspection:

a. Type of filing: Notice of Intent to File an Application for New License.

b. Project No: 2100.

c. Date filed: January 11, 2002.

d. Submitted By: California Department of Water Resources.

e. Name of Project: Feather River.

f. Location: The Oroville Division, State Water Facilities are located on the Feather River, near the City of Oroville, in Butte County, California.

g. Filed Pursuant to: Section 15 of the Federal Power Act, 18 CFR 16.6.

h. Pursuant to Section 16.19 of the Commission's regulations, the licensee is required to make available the information described in section 16.7 of the regulations. Such information is available from the licensee at The California Department of Water Resources, 1416 Ninth Street, Room 742, Sacramento, California 94236-0001.

i. FERC Contact: James Fargo, 202-219-2848, James.Fargo@Ferc.Gov.

j. Expiration Date of Current License: January 31, 2007.

k. Project Description: The Oroville facilities consist of the existing Oroville Dam and Reservoir, the Edward Hyatt Powerplant, Thermalito Powerplant, Thermalito Diversion Dam Powerplant, Thermalito Forebay and Afterbay, and associated recreational and fish and wildlife facilities. The project has a total installed capacity of 762,000 kilowatts.

l. The licensee states its unequivocal intent to submit an application for a new license for Project No. 2100. Pursuant to 18 CFR 16.9(b)(1) each application for a new license and any competing license applications must be filed with the Commission at least 24 months prior to the expiration of the existing license. All applications for license for this project must be filed by January 31, 2005.

A copy of the notice of intent is available for inspection and reproduction at the Commission's Public Reference Room, located at 888 First Street, NE, Room 2A, Washington, DC 20426, or by calling (202) 208-1371. The notice may be viewed on http://www.ferc.fed.us/online/rims.htm (call (202) 208-2222 for assistance). A copy is also available for inspection and reproduction at the address in item h above.

C.B. Spencer,
Acting Secretary.

[FR Doc. 02-2292 Filed 1-30-02; 8:45 am]

BILLING CODE 6717-01-P